DEPARTMENT OF ENERGY

Energy Information Administration

American Statistical Association Committee on Energy Statistics

AGENCY: Department of Energy.

ACTION: Notice of Open Meeting.

SUMMARY: This notice announces a meeting of the American Statistical Association Committee on Energy Statistics, a utilized Federal Advisory Committee. The Federal Advisory Committee Act (Pub. L. 92-463, 86 Stat. 770) requires that public notice of these meetings be announced in the Federal Register.

DATES: Thursday, October 24, 2002, 8:30 a.m.-4:30 p.m. Friday, October 25, 2002, 8:30 a.m.-12 noon.

ADDRESSES: U. S. Department of Energy, Room 8E-089, 1000 Independence Ave., SW., Washington, DC 20585.

FOR FURTHER INFORMATION CONTACT: Mr. William I. Weinig, EI-70, Committee Liaison, Energy Information Administration, U.S. Department of Energy, 1000 Independence Ave., SW., Washington, DC 20585, Telephone: (202) 287-1709. Alternately, Mr. Weinig may be contacted by e-mail at william.weinig@eia.doe.gov or by FAX at (202) 287-1705.

Purpose of Committee: To advise the Department of Energy, Energy Information Administration (EIA), on EIA technical statistical issues and to enable the EIA to benefit from the Committee's expertise concerning other energy-related statistical matters.

Tentative Agenda

Thursday, October 24, 2002

A. Opening Remarks by the ASA Committee Chair, the EIA Administrator and the Director, Statistics and Methods Group, EIA. Room 8E-089

B. Major Topics (Room 8E-089 unless otherwise noted)

1. Update on Commercial Buildings Energy Consumption Survey.

2. Completion of EIA's System for the Analysis of Global Energy Markets.

3. Information Quality Guidelines Completed: What's Next?

4. Natural Gas Data Program Updates.

5. Using Data from Combined Heat and Power Plants to Estimate Natural Gas Industrial Prices.

6. Managing Risk in Energy Markets (Room 5E-069).

7. Public Questions and Comments.

8. State Level Coal Forecasting.

9. Estimating Monthly Data for Non-Utility Generation and Fuel Consumption from Annual and Monthly Time Series (Room 5E-069).

10. Estimating and Presenting Power Sector Fuel Use in EIA Publications and Analyses.

11. Public Questions and Comments.

Friday, October 25, 2002, Room 8E-089

C. Major Topics

1. EIA's Voluntary Reporting of Greenhouse Gases Program.

2. Organization and Delivery of Energy Information in Spatially Referenced Form.

3. The ASA Committee on Energy Statistics Contributions to the EIA.

4. Public Questions and Comments.

D. Closing Remarks by the Chair

Public Participation: The meeting is open to the public. The Chair of the Committee is empowered to conduct the meeting in a fashion that will facilitate the orderly conduct of business. Written statements may be filed with the committee either before or after the meeting. If there are any questions, please contact Mr. William I. Weinig, EIA Committee Liaison, at the address or telephone number listed above. This Federal Register Notice is being published less than 15 days before the meeting due to programmatic issues that needed to be resolved prior to publication.

A Meeting Summary and Transcript will subsequently be available through Mr. Weinig who may be contacted at (202) 287-1709 or by e-mail at william.weinig@eia.doe.gov.

Issued at Washington, DC on October 11, 2002.
Rachel M. Samuel,
Deputy Advisory Committee Management Officer.

[FR Doc. 02-26443 Filed 10-16-02; 8:45 am]

BILLING CODE 6450-01-P